DEPARTMENT OF DEFENSE

Defense Acquisition Regulations System

48 CFR Parts 204, 219, and 253

RIN 0750-AF77

Defense Federal Acquisition Regulation Supplement; Contract Reporting (DFARS Case 2007-D006)

AGENCY: Defense Acquisition Regulations System, Department of Defense (DoD).

ACTION: Final rule.

SUMMARY: DoD has issued a final rule amending the Defense Federal Acquisition Regulation Supplement (DFARS) to address DoD requirements for reporting of contract actions in the Federal Procurement Data System.

DATES: Effective Date: July 29, 2009.

FOR FURTHER INFORMATION CONTACT: Mr. Julian Thrash, Defense Acquisition Regulations System, OUSD (AT&L) DPAP (DARS), IMD 3D139, 3062 Defense Pentagon, Washington, DC 20301-3062. Telephone 703-602-0310; facsimile 703-602-7887. Please cite DFARS Case 2007-D006.

SUPPLEMENTARY INFORMATION:

A. Background

The Federal Procurement Data System (FPDS) provides a comprehensive Web-based tool for Federal agencies to report contract actions. General reporting requirements for FPDS are in Subpart 4.6 of the Federal Acquisition Regulation. This final rule updates DFARS text addressing reporting of contract actions, to remove references to obsolete reporting form DD 350, and to address current DoD procedures for reporting of contract actions in FPDS.

This rule was not subject to Office of Management and Budget review under Executive Order 12866, dated September 30, 1993.

B. Regulatory Flexibility Act

This rule will not have a significant cost or administrative impact on contractors or offerors, or a significant effect beyond the internal operating procedures of DoD. Therefore, publication for public comment under 41 U.S.C. 418b is not required. However, DoD will consider comments from small entities concerning the affected DFARS subparts in accordance with 5 U.S.C. 610. Such comments should cite DFARS Case 2007-D006.

C. Paperwork Reduction Act

The Paperwork Reduction Act does not apply, because the rule does not impose any information collection requirements that require the approval of the Office of Management and Budget under 44 U.S.C. 3501, et seq.

List of Subjects in 48 CFR Parts 204, 219, and 253

Government procurement.

Michele P. Peterson,
Editor, Defense Acquisition Regulations System.

Therefore, 48 CFR Parts 204, 219, and 253 are amended as follows:

1. The authority citation for 48 CFR Parts 204, 219, and 253 continues to read as follows:

Authority: 41 U.S.C. 421 and 48 CFR Chapter 1.

PART 204—ADMINISTRATIVE MATTERS

2. Sections 204.602, 204.604, and 204.606 are added to read as follows:

204.602 General.

See PGI 204.602 for additional information on the Federal Procurement Data System (FPDS) and procedures for resolving technical or policy issues relating to FPDS.

204.604 Responsibilities.

(1) The process for reporting contract actions to FPDS should, where possible, be automated by incorporating it into contract writing systems.

(2) Data in FPDS is stored indefinitely and is electronically retrievable. Therefore, the contracting officer may reference the contract action report (CAR) approval date in the associated Government contract file instead of including a paper copy of the electronically submitted CAR in the file. Such reference satisfies contract file documentation requirements of FAR 4.803(a).

(3) By December 15th of each year, the chief acquisition officer of each DoD component required to report its contract actions shall submit to the Director, Defense Procurement and Acquisition Policy, its annual certification and data validation results for the preceding fiscal year in accordance with the DoD Data Improvement Plan requirements at http://www.acq.osd.mil/dpap/pdi/eb. The Director, Defense Procurement and Acquisition Policy, will submit a consolidated DoD annual certification to the Office of Management and Budget by January 5th of each year.

204.606 Reporting data.

In addition to FAR 4.606, follow the procedures at PGI 204.606 for reporting data to FPDS.

204.670 [Removed]

3. Section 204.670 is removed.

4. Section 204.902 is revised to read as follows:

204.902 General.

(b) DoD uses the Federal Procurement Data System (FPDS) to meet these reporting requirements.

204.7203 [Amended]

5. Section 204.7203 is amended by removing paragraph (c).

PART 219—SMALL BUSINESS PROGRAMS

6. Section 219.001 is amended by revising paragraph (2)(iv) to read as follows:

219.001 Definitions.

* * * * *

(2) * * *

(iv) Reporting contract actions with SDB concerns in the Federal Procurement Data System (FPDS).

7. Section 219.202-5 is amended by revising the introductory text to read as follows:

219.202-5 Data collection and reporting requirements.

Determine the premium percentage to be entered in the Federal Procurement Data System (FPDS) as follows:

* * * * *

PART 253—FORMS

253.204 and 253.204-70 [Removed]

8. Sections 253.204 and 253.204-70 are removed.

[FR Doc. E9-17946 Filed 7-28-09; 8:45 am]

BILLING CODE 5001-08-P